SECURITIES AND EXCHANGE COMMISSION

Submission for OMB Review; Comment Request

Upon Written Request, Copies Available From: U.S. Securities and Exchange Commission, Office of Investor Education and Advocacy, Washington, DC 20549-0213.

Extension:

Rule 17g-4; SEC File No. 270-566; OMB Control No. 3235-0627.

Notice is hereby given that, pursuant to the Paperwork Reduction Act of 1995 (44 U.S.C. 3501 et seq.), the Securities and Exchange Commission (“Commission”) has submitted to the Office of Management and Budget a request for approval of extension of the previously approved collection provided for in Rule 17g-4 (17 CFR 240.17g-4) under the Securities Exchange Act of 1934 (15 U.S.C. 78a et seq.) (“Exchange Act”).

The Rating Agency Act added a new Section 15E, “Registration of Nationally Recognized Statistical Rating Organizations,” ¹ to the Exchange Act. Rule 17g-4 requires that a Nationally Recognized Statistical Rating Organization (“NRSRO”) has written policies and procedures to prevent the misuse of material nonpublic information including: procedures designed to prevent the inappropriate dissemination of material nonpublic information obtained in connection with the performance of credit rating services; procedures designed to prevent a person associated with the rating organization from trading on material nonpublic information; and procedures designed to prevent the inappropriate dissemination of a pending credit rating.²

¹ 15 U.S.C. 78o-7.

² See Rule 17g-4. Release No. 34-55231 (Feb. 2, 2007), 72 FR 6378 (Feb. 9, 2007); and Release No. 34-55857 (June 5, 2007), 72 FR 33564 (June 18, 2007).

It is anticipated that 30 credit rating agencies will register with the Commission as NRSROs under Section 15E of the Exchange Act. The Commission estimates that it will take approximately 50 hours for an NRSRO to establish procedures in conformance with Rule 17g-4 for a total one-time burden for the 30 credit rating agencies the Commission estimates will register as NRSROs of 1,500 hours.³

³ 50 hours × 30 NRSROs = 1,500 hours.

An agency may not conduct or sponsor, and a person is not required to respond to, a collection of information unless it displays a currently valid control number.

Comments should be directed to: (i) Desk Officer for the Securities and Exchange Commission Office of Information and Regulatory Affairs, Office of Management and Budget, Room 10102, New Executive Office Building, Washington, DC 20503 or by sending an e-mail to: Shagufta_Ahmed@omb.eop.gov; and (ii) Charles Boucher, Director/Chief Information Officer, Securities and Exchange Commission, c/o Shirley Martinson, 6432 General Green Way, Alexandria, Virginia 22312 or send an e-mail to PRA_Mailbox@sec.gov. Comments must be submitted to OMB within 30 days of this notice.

Dated: March 17, 2010.
Florence E. Harmon,
Deputy Secretary.

[FR Doc. 2010-6504 Filed 3-23-10; 8:45 am]

BILLING CODE 8011-01-P